DEPARTMENT OF JUSTICE

Antitrust Division

Notice Pursuant to the National Cooperative Research and Production Act of 1993—Automotive Lift Institute

Correction

In notice document 04-25867 appearing on page 67942 in the issue of Monday, November 22, 2004, make the following corrections:

1. In the second column, in the first full paragraph, in the sixth line, “Automotive Life Institute” should read “Automotive Lift Institute”.

2. In the same column, in the second full paragraph, in the fourth line, “Automotive Life Institute” should read “Automotive Lift Institute”.

[FR Doc. C4-25867 Filed 12-6-04; 8:45 am]

BILLING CODE 1505-01-D

DEPARTMENT OF LABOR

Mine Safety and Health Administration

30 CFR Part 18

RIN 1219-AA75

Electric Motor-Driven Mine Equipment and Accessories and High-Voltage Longwall Equipment Standards for Underground Coal Mines

Correction

In rule document 04-25891 beginning on page 68078 in the issue of Tuesday, November 23, 2004 make the following correction:

§18.53 [Corrected]

On page 68078, in §18.53(o)(1)(ii), between the two equations insert the paragraph “(1)(ii) Aluminum Wall/Cover:”.

[FR Doc. C4-25891 Filed 12-6-04; 8:45 am]

BILLING CODE 1505-01-D